DEPARTMENT OF TRANSPORTATION

Federal Aviation Administration

[Summary Notice No. PE-2004-17]

Petitions for Exemption; Summary of Petitions Received; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, Sandy Buchanan-Sumter (202) 267-7271, or Denise Emrick (202) 267-5174, Office of Rulemaking (ARM-1), Federal Aviation Administration, 800 Independence Avenue, SW., Washington, DC 20591.

This notice is published pursuant to 14 CFR 11.85 and 11.91.

Issued in Washington, DC, on March 9, 2004.
Donald P. Byrne,
Assistant Chief Counsel for Regulations.

Dispositions of Petitions

Docket No.: FAA-2003-16491.

Petitioner: Department of the Army.

Section of 14 CFR Affected: 14 CFR 105.19(a) and (b).

Description of Relief Sought/Disposition: To permit the Department of the Army, 2nd Battalion, 75th Ranger Regiment to conduct night parachute operations using parachutes with no illumination, outside of the special use airspace at Fort Lewis, Washington.

Grant, 2/20/2004, Exemption No. 8255.

Docket No.: FAA-2004-17087.

Petitioner: Joint Special Operations Command.

Section of 14 CFR Affected: 14 CFR 105.17, and 105.19(a) and (b).

Description of Relief Sought/Disposition: To permit the Joint Special Operations Command forces to conduct night parachute operations using parachutes with no illumination, through clouds, outside of the special use airspace, at and below 1,500 feet above ground level (AGL).

Grant, 2/20/2004, Exemption No. 8256.

Docket No.: FAA-2001-8811.

Petitioner: Aero Sky.

Section of 14 CFR Affected: 14 CFR 145.37(b).

Description of Relief Sought/Disposition: To permit Aero Sky to continue to hold an FAA repair station certificate (certificate No. KQ7R556N) without having suitable permanent housing facilities for at least one of the heaviest aircraft within the weight class of the rating it holds.

Grant, 2/20/2004, Exemption No. 6673E.

Docket No.: FAA-2002-11508.

Petitioner: Premier Jets, Inc.

Section of 14 CFR Affected: 14 CFR 135.143(c)(2).

Description of Relief Sought/Disposition: To permit Premier Jets, Inc., to operate certain aircraft under part 135 without a TSO-C112 (Mode S) transponder installed on those aircraft.

Denial, 2/17/2004, Exemption No. 7160B.

Docket No.: FAA-2001-8750.

Petitioner: Community College of the Air Force.

Section of 14 CFR Affected: 14 CFR 147.31(c)(2)(iii).

Description of Relief Sought/Disposition: To permit the Community College of the Air Force to allow U.S. Air Force aviation maintenance technicians who have completed military aviation maintenance training courses to be evaluated using the same criteria that is used for the civilian sector.

Grant, 2/10/2004, Exemption No. 8251.

Docket No.: FAA-2003-15659.

Petitioner: F & E Aircraft Maintenance (Miami), LLC.

Section of 14 CFR Affected: 14 CFR 145.35 and 145.37(b).

Description of Relief Sought/Disposition: To permit F&E Aircraft Maintenance (Miami), LLC to qualify for a repair station airframe rating without having suitable permanent housing for at least one of the heaviest aircraft within the weight class of the rating it seeks.

Denial, 2/2/2004, Exemption No. 8249.

Docket No.: FAA-2002-11284.

Petitioner: Tulsa Air & Space Center Airshows, Inc.

Section of 14 CFR Affected: 14 CFR 91.315, 119.5(g), and 119.21(a).

Description of Relief Sought/Disposition: To permit Tulsa Air & Space Center Airshows, Inc., to operate its North American B-25 (B25) aircraft for the purpose of carrying passengers for compensation or hire on local flights for educational and historical purposes.

Grant, 2/12/2004, Exemption No. 8253.

Docket No.: FAA-2003-16809.

Petitioner: Kalitta Charters II LLC.

Section of 14 CFR Affected: 14 CFR 61.3(a) and (c)(1) and 121.383(a)(2).

Description of Relief Sought/Disposition: To permit Kalitta Charters II LLC pilots to operate aircraft, on a temporary basis, without having their pilot and medical certificates in their physical possession or readily accessible in the aircraft.

Grant, 2/12/2004, Exemption No. 8252.

Docket No.: FAA-2001-9160.

Petitioner: Florida Department of Law Enforcement.

Section of 14 CFR Affected: 14 CFR 91.159(a) and 91.209(a) and (b).

Description of Relief Sought/Disposition: To permit Florida Department Law Enforcement to conduct operations in support of law enforcement and drug traffic interdiction without complying with visual flight aircraft position and anticollision lights while operating between sunset and sunrise.

Grant, 2/12/2004, Exemption No. 3596H.

Docket No.: FAA-2002-13585.

Petitioner: Mr. Timothy P. Davis.

Section of 14 CFR Affected: 14 CFR 65.71(a)(3).

Description of Relief Sought/Disposition: To permit Mr. Timothy P. Davis to be eligible for a mechanic certificate with a powerplant rating without having passed all the prescribed tests within 24 months.

Grant, 2/9/2004, Exemption No. 8250.

Docket No.: FAA-2002-12117.

Petitioner: Alaska Air Taxi.

Section of 14 CFR Affected: 14 CFR 135.143(c)(2).

Description of Relief Sought/Disposition: To permit Alaska Air Taxi to operate certain aircraft under part 135 without a TSO-C112 (Mode S) transponder installed on those aircraft.

Grant, 2/9/2004, Exemption No. 7247B.

Docket No.: FAA-2004-16936.

Petitioner: Northwest Helicopters, Inc.

Section of 14 CFR Affected: 14 CFR 135.143(c)(2).

Description of Relief Sought/Disposition: To permit Northwest Helicopters, Inc., to operate certain aircraft under part 135 without a TSO-C112 (Mode S) transponder installed on those aircraft.

Grant, 2/9/2004, Exemption No. 8247.

Docket No.: FAA-2002-11485.

Petitioner: Southwest Airlines Company.

Section of 14 CFR Affected: 14 CFR 121.434(c)(1)(ii).

Description of Relief Sought/Disposition: To permit Southwest Airlines Company to substitute a qualified and authorized check airman in place of an FAA inspector to observe a qualifying pilot in command (PIC) while that PIC is performing prescribed duties during at least one flight leg that includes a takeoff and a landing when completing initial or upgrade training as specified in § 121.424.

Grant, 2/4/2004, Exemption No. 7132B.

Docket No.: FAA-2004-16933.

Petitioner: Mr. Kirk A. McCarty.

Section of 14 CFR Affected: 14 CFR 61.197.

Description of Relief Sought/Disposition: To permit Mr. Kirk A. McCarty an extension to March 31, 2004, on his current certified flight instructor certificate.

Denial, 2/4/2004, Exemption No. 8246.

Docket No.: FAA-2002-11554.

Petitioner: Adeletom Aviation, LLC.

Section of 14 CFR Affected: 14 CFR 135.143(c)(2).

Description of Relief Sought/Disposition: To permit Adeletom Aviation, LLC to operate certain aircraft under part 135 without a TSO-C112 (Mode S) transponder installed on those aircraft.

Grant, 2/4/2004, Exemption No. 7201B.

Docket No.: FAA-2002-11767.

Petitioner: Atlantic Aero, Inc.

Section of 14 CFR Affected: 14 CFR 135.143(c)(2).

Description of Relief Sought/Disposition: To permit Atlantic Aero, Inc., to operate certain aircraft under part 135 without a TSO-C112 (Mode S) transponder installed on those aircraft.

Grant, 2/4/2004, Exemption No. 6459E.

Docket No.: FAA-2002-11759.

Petitioner: Aero Charter, Inc.

Section of 14 CFR Affected: 14 CFR 135.143 (c)(2).

Description of Relief Sought/Disposition: To permit Aero Charter, Inc., to operate certain aircraft under part 135 without a TSO-C112 (Mode S) transponder installed on those aircraft.

Grant, 2/4/2004, Exemption No. 7250B.

Docket No.: FAA-2002-11567.

Petitioner: King Airelines, Inc.

Section of 14 CFR Affected: 14 CFR 135.143 (c)(2).

Description of Relief Sought/Disposition: To permit King Airelines Inc., to operate certain aircraft under part 135 without a TSO-C112 (Mode S) transponder installed on those aircraft.

Grant, 2/4/2004, Exemption No. 6093D.

Docket No.: FAA-2004-17020.

Petitioner: Charter Direct, Inc.

Section of 14 CFR Affected: 14 CFR 135.143(c)(2).

Description of Relief Sought/Disposition: To permit Charter Direct Inc., to operate certain aircraft under part 135 without a TSO-C112 (Mode S) transponder installed on those aircraft.

Grant, 2/4/2004, Exemption No. 8245.

Docket No.: FAA-2004-16998.

Petitioner: Pavco, Inc.

Section of 14 CFR Affected: 14 CFR 135.143(c)(2).

Description of Relief Sought/Disposition: To permit Pavco Inc., to operate certain aircraft under part 135 without a TSO-C112 (Mode S) transponder installed on those aircraft.

Grant, 2/4/2004, Exemption No. 8244.

Docket No.: FAA-2004-16994.

Petitioner: Helicopters, Inc.

Section of 14 CFR Affected: 14 CFR 135.143(c)(2).

Description of Relief Sought/Disposition: To permit Helicopters, Inc., to operate certain aircraft under part 135 without a TSO-C112 (Mode S) transponder installed on those aircraft.

Grant, 2/4/2004, Exemption No. 8243.

Docket No.: FAA-2001-10876.

Petitioner: Experimental Aircraft Association, Inc.

Section of 14 CFR Affected: 14 CFR 91.319(a)(2), and 119.21(a).

Description of Relief Sought/Disposition: To permit Experimental Aircraft Association, Inc., to operate its Spirit of St. Louis airplane for the purpose of carrying passengers for compensation or hire on local flights for educational and historical purposes.

Grant, 1/28/2004, Exemption No. 6541F.

Docket No.: FAA-2000-8190.

Petitioner: Atlas Air, Inc.

Section of 14 CFR Affected: 14 CFR 121.434(c)(1)(ii).

Description of Relief Sought/Disposition: To permit Atlas Air, Inc., to substitute a qualified and authorized check airman in place of an FAA inspector to observe a qualifying pilot in command (PIC) who is completing initial or upgrade training specified in § 121.424 during at least one flight leg that includes a takeoff and a landing. Grant, 1/29/2004, Exemption No. 8240.

Docket No.: FAA-2003-16625.

Petitioner: Alaska Juneau Aeronautics, Inc., d.b.a. Wings of Alaska.

Section of 14 CFR Affected: 14 CFR 135.203(a)(1).

Description of Relief Sought/Disposition: To permit Alaska Juneau Aeronautics, Inc., d.b.a. Wings of Alaska to operate under visual flight rules outside controlled airspace over water at an altitude below 500 feet.

Grant, 1/28/2004, Exemption No. 8242.

Docket No.: FAA-2003-16695.

Petitioner: Mr. Hugh G. Bale.

Section of 14 CFR Affected: 14 CFR 121.383(c).

Description of Relief Sought/Disposition: To permit Mr. Hugh G. Bale to act as a pilot in operations conducted under part 121 after reaching his 60th birthday.

Denial, 1/28/2004, Exemption No. 8241.

Docket No.: FAA-2001-9874.

Petitioner: Civil Air Patrol.

Section of 14 CFR Affected: 14 CFR 61.113(e) and 119.1(a).

Description of Relief Sought/Disposition: To permit Civil Air Patrol (CAP) to reimburse CAP members who are private pilots for fuel, oil, supplemental oxygen, fluids, lubricants, preheating, deicing, airport expenses, servicing, and maintenance expenses, and certain per diem expenses incurred while serving on official U.S. Air Force (USAF)-assigned CAP missions. Additionally, this exemption permits certain CAP operations, including CAP/Air Force Reserve Officers' Training Corps (AFROTC) cadet orientation flights.

Grant, 1/28/2004, Exemption No. 6771C.

Docket No.: FAA-2002-11555.

Petitioner: United Parcel Service. Section of 14 CFR Affected: 14 CFR 121.433(c)(1)(iii), 121.440(a), 121.441(a)(1) and (b)(1), and appendix F to part 121.

Description of Relief Sought/Disposition: To permit United Parcel Service (UPS) to combine recurrent flight and ground training and proficiency checks for UPS's pilots in command (PIC), seconds in command (SIC), and flight engineers in a single annual training and proficiency evaluation program.

Grant, 1/29/2004, Exemption No. 6434D.

Docket No.: FAA-2002-11291.

Petitioner: Northwest Airlines, Inc.

Section of 14 CFR Affected: 14 CFR 121.434(c)(1)(ii).

Description of Relief Sought/Disposition: To permit Northwest Airlines, Inc. to substitute a qualified and authorized check airman in place of an FAA inspector to observe a qualifying pilot in command who is completing the initial or upgrade training specified in § 121.424 during at least one flight leg that includes a takeoff and a landing, subject to certain conditions and limitations.

Grant, 1/28/2004, Exemption No. 6782C.

Docket No.: FAA-2002-11937.

Petitioner: TBM, Inc., and Butler Aircraft Co.

Section of 14 CFR Affected: 14 CFR 91.611.

Description of Relief Sought/Disposition: To permit T.B.M., Inc. and Butler Aircraft Co., to conduct ferry flights with one engine inoperative on their McDonnell Douglas DC-6 airplane (registration No. N90739) and DC-7 airplanes (registration Nos. N401US, N6318C, N6353C, N756Z, and N838D) without obtaining a special flight permit for each flight.

Grant, 1/28/2004, Exemption No. 5204G.

Docket No.: FAA-2002-11599.

Petitioner: Honolulu Community College.

Section of 14 CFR Affected: 14 CFR 65.75(b).

Description of Relief Sought/Disposition: To permit Honolulu Community College (HCC) to use a continuous practical examination program in which each student undergoes FAA oral and practical testing concurrent with HCC's training program as an integral part of the education process.

Grant, 1/27/2004, Exemption No. 6764C.

Docket No.: FAA-2002-11285.

Petitioner: Commemorative Air Force.

Section of 14 CFR Affected: 14 CFR 91.315, 91.319(a), 119.5(g), and 119.21(a).

Description of Relief Sought/Disposition: To permit Commemorative Air Force to fly World War II (WWII) vintage military airplanes in air shows and other aviation events, or with passengers, for the purpose of preserving U.S. military aviation history and experience flight in a historic aircraft.

Grant, 1/30/2004, Exemption No. 6802C.

Docket No.: FAA-2000-8531.

Petitioner: Hamilton Sundstrand Corporation.

Section of 14 CFR Affected: 14 CFR 21.325(b)(3).

Description of Relief Sought/Disposition: To permit Hamilton Sundstrand Corporation (HSC) to issue export airworthiness approval tags for class II and class III products manufactured at HSC's Singapore facility.

Grant, 1/26/2004, Exemption No. 7841A.

Docket No.: FAA-202-11506.

Petitioner: The Boeing Company.

Section of 14 CFR Affected: 14 CFR 21.197.

Description of Relief Sought/Disposition: To permit The Boeing Company (Boeing) to conduct training of Boeing's pilot flight crewmembers while operating under special flight permits issued for the purpose of production flight testing.

Grant, 1/26/2004, Exemption No. 4936F.

Docket No.: FAA-2001-10414.

Petitioner: Air Cargo Carriers, Inc.

Section of 14 CFR Affected: 14 CFR 135.143(c)(2).

Description of Relief Sought/Disposition: To permit Air Cargo Carriers, Inc., to operate certain aircraft under part 135 without a TSO-C112 (Mode S) transponder installed on those aircraft.

Grant, 1/30/2004, Exemption No. 7124B.

Docket No.: FAA-2001-10221.

Petitioner: Air Wisconsin Airlines Corporation.

Section of 14 CFR Affected: 14 CFR 121.434(c)(1)(ii).

Description of Relief Sought/Disposition: To permit Air Wisconsin Airlines Corporation to substitute a qualified and authorized check airman in place of an FAA inspector to observe a qualifying pilot in command who is completing initial or upgrade training specified in § 121.424 during at least one flight leg that includes a takeoff and a landing subject to certain conditions and limitations.

Grant, 1/29/2004, Exemption No. 7778A.

Docket No.: FAA-2001-10013.

Petitioner: Southwest Airlines.

Section of 14 CFR Affected: 14 CFR 121.623(a) and (d), 121.643, and 121.645(e).

Description of Relief Sought/Disposition: To permit Southwest Airlines to conduct supplemental operations within 48 contiguous United States and the District of Columbia using the flight regulations for alternate airports as required by § 121.619 and the fuel reserve regulations as required by § 121.639 that are applicable to domestic operations.

Grant, 1/27/2004, Exemption No. 8238.

Docket No.: FAA-2002-11768.

Petitioner: Twin Otter International, Ltd.

Section of 14 CFR Affected: 14 CFR 121.345(c)(2) and 135.143(c)(2).

Description of Relief Sought/Disposition: To permit Twin Otter International, Ltd. to operate certain aircraft under part 121 and part 135 without a TSO-C112 (Mode S) transponder installed on those aircraft.

Grant, 1/15/2004, Exemption No. 6111D.

Docket No.: FAA-2002-11575.

Petitioner: Rhinelander Flying Service.

Section of 14 CFR Affected: 14 CFR 135.143(c)(2).

Description of Relief Sought/Disposition: To permit Rhinelander Flying Service to operate certain aircraft under part 135 without a TSO-C112 (Mode S) transponder installed on those aircraft.

Grant, 1/15/2004, Exemption No. 7793A.

Docket No.: FAA-2003-16804.

Petitioner: Airtime Aviation, Inc.

Section of 14 CFR Affected: 14 CFR 135.143(c)(2).

Description of Relief Sought/Disposition: To permit Airtime Aviation, Inc., to operate certain aircraft under part 135 without a TSO-C112 (Mode S) transponder installed on those aircraft.

Grant, 1/15/2004, Exemption No. 8232.

Docket No.: FAA-2004-16902.

Petitioner: Selway Aviation, LLC.

Section of 14 CFR Affected: 14 CFR 135.143(c)(2).

Description of Relief Sought/Disposition: To permit Selway Aviation, LLC to operate certain aircraft under part 135 without a TSO-C112 (Mode S) transponder installed on those aircraft.

Grant, 1/15/2004, Exemption No. 8231.

Docket No.: FAA-2004-16862.

Petitioner: LRT Company, LLC.

Section of 14 CFR Affected: 14 CFR 135.143(c)(2).

Description of Relief Sought/Disposition: To permit LRT Company, LLC to operate certain aircraft under part 135 without a TSO-C112 (Mode S) transponder installed on those aircraft.

Grant, 1/15/2004, Exemption No. 8230.

Docket No.: FAA-2002-11940.

Petitioner: Zebra Air, Inc.

Section of 14 CFR Affected: 14 CFR 135.143(c)(2).

Description of Relief Sought/Disposition: To permit Zebra Air, Inc., to operate certain aircraft under part 135 without a TSO-C112 (Mode S) transponder installed on those aircraft.

Denial, 1/20/2004, Exemption No. 6407D.

Docket No.: FAA-2004-16903.

Petitioner: R & R Aviation, LLC.

Section of 14 CFR Affected: 14 CFR 91.207(f)(1).

Description of Relief Sought/Disposition: To permit R & R Aviation, LLC to operate certain aircraft without having an approved automatic emergency locator transmitter (ELT) that is in operable condition until such a time that ELT equipment may be installed.

Denial, 1/16/2004, Exemption No. 8236.

Docket No.: FAA-2004-16900.

Petitioner: Pro Air Cargo & Consulting, Inc. d.b.a. PACCAIR.

Section of 14 CFR Affected: 14 CFR 135.143(c)(2).

Description of Relief Sought/Disposition: To permit Pro Air Cargo & Consulting, Inc. d.b.a. PACCAIR to operate certain aircraft under part 135 without a TSO-C112 (Mode S) transponder installed on those aircraft.

Grant, 1/15/2004, Exemption No. 8229.

Docket No.: FAA-2002-11458.

Petitioner: Northern Air Fuel, Inc.

Section of 14 CFR Affected: 14 CFR 91.9(a).

Description of Relief Sought/Disposition: To permit Northern Air Fuel, Inc., to operate its DC-6A and DC-6B aircraft, registration Nos. N7780B, N4206L, N7919C, N434TA, N6204U, and N1377K, at a 5 percent increased zero fuel and landing weight for the purpose of operating all-cargo aircraft to provide supplies to people in isolated villages in Alaska.

Grant, 1/13/2004, Exemption No. 7709A.

Docket No.: FAA-2003-16820.

Petitioner: Mr. James Ray Smith.

Section of 14 CFR Affected: 14 CFR 91.109(a).

Description of Relief Sought/Disposition: To permit Mr. James Ray Smith to conduct certain flight training in certain Beechcraft Bonanza/Debonair airplanes that are equipped with a functioning throw-over control wheel.

Grant, 1/13/2004, Exemption No. 8227.

Docket No.: FAA-2003-16837.

Petitioner: Mr. Brian R. Younge.

Section of 14 CFR Affected: 14 CFR 91.207(a)(1).

Description of Relief Sought/Disposition: To permit Mr. Brian R. Younge to operate a Cessna Citation 501SP, N642BJ, without having an approved automatic emergency locator administrator (ELT) that is in operable condition until such a time that ELT equipment may be installed.

Denial, 1/14/2004, Exemption No. 8228.

Docket No.: FAA-2001-9369.

Petitioner: Department of Homeland Security, Bureau of Immigration and Customs Enforcement, Office of Air and Marine Interdiction.

Section of 14 CFR Affected: 14 CFR 91.117(a), (b), and (c), 91.119(c), 91.159(a), and 91.209(a) and (d).

Description of Relief Sought/Disposition: To permit the Department of Homeland Security, Bureau of Immigration and Customs Enforcement, Office of Air and Marine Interdiction (OAMI) to operate its aircraft: (1) Close enough to other aircraft to visually identify distinguishing aircraft characteristics, communicate with hand signals, and divert nonresponding aircraft; and (2) in controlled airspace with each aircraft's operable air traffic control transponder turned off.

Grant, 6/16/2003, Exemption No. 5504D.

Docket No.: FAA-2002-11928.

Petitioner: Mid Atlantic Freight, Inc.

Section of 14 CFR Affected: 14 CFR 135.143(c)(2).

Description of Relief Sought/Disposition: To permit Mid Atlantic Freight, Inc. (Mid Atlantic) to operate certain aircraft under part 135 without a TSO-C112 (Mode S) transponder installed on those aircraft.

Grant, 2/25/2004, Exemption No. 7291B.

[FR Doc. 04-5680 Filed 3-11-04; 8:45 am]

BILLING CODE 4910-13-P